DEPARTMENT OF JUSTICE

Notice of Lodging of Proposed Consent Decree Under the Comprehensive Environmental Response, Compensation, and Liability Act and the Clean Water Act

On July 19, 2013, the Department of Justice lodged a proposed consent decree with the United States District Court for the Southern District of Alabama in the lawsuit entitled United States of America, Alabama Department of Conservation and Natural Resources, and the Geological Survey of Alabama v. BASF Corporation, Civil Action No. 13-00372-KD-M.

The plaintiffs alleged that BASF Corporation, as successor in interest to BASF Performance Products LLC (f/k/a Ciba Corporation, f/k/a Ciba Specialty Chemicals Corporation), is liable under CERCLA and the Clean Water Act for damages for injury to, loss of, or destruction of natural resources under the trusteeship of the National Oceanic and Atmospheric Administration (NOAA), the U.S. Department of the Interior (DOI), Alabama Department of Conservation and Natural Resources, and the Geological Survey of Alabama. The claims arise from releases and threatened releases of hazardous substances, including the pesticide DDT and its degradation products, from a chemical production facility at the Ciba-Geigy Corporation (McIntosh Plant) Superfund Site near McIntosh, Washington County, Alabama. The consent decree requires BASF Corporation to pay $3.2 million into the Mobile Bay Watershed/Ciba-Geigy Site (AL) Restoration Account; $500,000 to the Alabama Department of Conservation and Natural Resources, Game and Fish Fund; and $1.3 million to DOI and NOAA as reimbursement for damage assessment costs. Under the consent decree, the plaintiffs covenant not to sue or take civil judicial or administrative action against BASF Corporation under CERCLA or the Clean Water Act to recover natural resource damages related to the Site.

The publication of this notice opens a period for public comment on the consent decree. Comments should be addressed to the Assistant Attorney General, Environment and Natural Resources Division, and should refer to United States of America, Alabama Department of Conservation and Natural Resources, and the Geological Survey of Alabama v. BASF Corporation, D.J. Ref. No. 90-11-2-781/1. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $8.25 (25 cents per page reproduction cost) payable to the United States Treasury.

Henry Friedman,
Assistant Section Chief, Environmental Enforcement Section, Environment and Natural Resources Division.

[FR Doc. 2013-18206 Filed 7-29-13; 8:45 am]

BILLING CODE 4410-15-P